COMMISSION ON CIVIL RIGHTS

Hearing on Environmental Justice; Sunshine Act Meeting

AGENCY: Commission on Civil Rights.

ACTION: Amendment of notice of hearing.

SUMMARY: Notice is hereby given pursuant to the provisions of the Civil Rights Commission Amendments Act of 1994, Section 3, Public Law 103-419, 180 Stat. 4338, as amended, and 45 CFR 702.3., that a public hearing before the U.S. Commission on Civil Rights will take place on Friday, January 11, 2002, at the Hilton Hotel, in the Monroe Room, 1919 Connecticut Avenue, NW., Washington, DC 20009, beginning at approximately 10:00 a.m., immediately following previously scheduled Commission business taking place earlier that morning. The purpose of this hearing is to collect information within the jurisdiction of the Commission, under Public Law 98-183, Section 5(a)(1) and Section 5(a)(5), related particularly to the effect of environmental hazards, including hazardous waste sites and industries located in, or near, low-income communities and communities of color, and the question of whether the civil rights of those communities in question are being violated.

The Commission is authorized to hold hearings and to issue subpoenas for the production of documents and the attendance of witnesses pursuant to 45 CFR 701.2. The Commission is an independent bipartisan, fact finding agency authorized to study, collect, and disseminate information, and to appraise the laws and policies of the Federal Government, and to study and collect information with respect to discrimination or denials of equal protection of the laws under the Constitution because of race, color, religion, sex, age, disability, or national origin, or in the administration of justice. Hearing impaired persons who will attend the hearings and require the services of a sign language interpreter, should contact Pamela Dunston, Administrative Services and Clearinghouse Division at (202) 376-8105 (TDD (202) 376-8116), at least five (5) working days before the scheduled date of the hearing.

FOR FURTHER INFORMATION CONTACT: Les Jin, Office of the Staff Director (202) 376-7700.

Dated: December 20, 2001.
Debra A. Carr,
Deputy General Counsel.

[FR Doc. 01-31914 Filed 12-21-01; 11:29 am]

BILLING CODE 6335-01-M